DEPARTMENT OF TRANSPORTATION

Federal Aviation Administration

14 CFR Part 97

[Docket No. 31224; Amdt. No. 3827]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPs) and associated Takeoff Minimums and Obstacle Departure Procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective December 6, 2018. The compliance date for each SIAP, associated Takeoff Minimums, and ODP is specified in the amendatory provisions.

The incorporation by reference of certain publications listed in the regulations is approved by the Director of the Federal Register as of December 6, 2018.

ADDRESSES: Availability of matters incorporated by reference in the amendment is as follows:

For Examination

1. U.S. Department of Transportation, Docket Ops-M30, 1200 New Jersey Avenue SE, West Bldg., Ground Floor, Washington, DC 20590-0001.

2. The FAA Air Traffic Organization Service Area in which the affected airport is located;

3. The office of Aeronautical Navigation Products, 6500 South MacArthur Blvd., Oklahoma City, OK 73169; or,

4. The National Archives and Records Administration (NARA). For information on the availability of this material at NARA, call 202-741-6030, or go to: http://www.archives.gov/federal_register/code_of_federal_regulations/ibr_locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg 29, Room 104, Oklahoma City, OK 73125. Telephone: (405) 954-4164.

SUPPLEMENTARY INFORMATION: This rule amends Title 14 of the Code of Federal Regulations, Part 97 (14 CFR part 97), by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part 97.20. The applicable FAA forms are FAA Forms 8260-3, 8260-4, 8260-5, 8260-15A, and 8260-15B when required by an entry on 8260-15A.

The large number of SIAPs, Takeoff Minimums and ODPs, their complex nature, and the need for a special format make publication in the Federal Register expensive and impractical. Further, airmen do not use the regulatory text of the SIAPs, Takeoff Minimums or ODPs, but instead refer to their graphic depiction on charts printed by publishers of aeronautical materials. Thus, the advantages of incorporation by reference are realized and publication of the complete description of each SIAP, Takeoff Minimums and ODP listed on FAA form documents is unnecessary. This amendment provides the affected CFR sections and specifies the types of SIAPs, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPS as identified in the amendatory language for part 97 of this final rule.

The Rule

This amendment to 14 CFR part 97 is effective upon publication of each separate SIAP, Takeoff Minimums and ODP as Amended in the transmittal. Some SIAP and Takeoff Minimums and textual ODP amendments may have been issued previously by the FAA in a Flight Data Center (FDC) Notice to Airmen (NOTAM) as an emergency action of immediate flight safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C 553(d), good cause exists for making some SIAPs effective in less than 30 days.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26,1979); and (3)does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, Navigation (air).

Issued in Washington, DC, on November 16, 2018.
Rick Domingo,
Executive Director, Flight Standards Service.

Adoption of the Amendment

Accordingly, pursuant to the authority delegated to me, Title 14, Code of Federal Regulations, Part 97 (14 CFR part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

* * * Effective 3 January 2019

Anchorage, AK, Merrill Field, RNAV (GPS)-A, Amdt 1A

Valdez, AK, Valdez Pioneer Field, LDA-H, Amdt 2B

Colorado City, AZ, Colorado City Muni, Takeoff Minimums and Obstacle DP, Orig-A

Prescott, AZ, Ernest A Love Field, PRESCOTT TWO, GRAPHIC DP

Prescott, AZ, Ernest A Love Field, Takeoff Minimums and Obstacle DP, Amdt 5

Modesto, CA, Modesto City-Co-Harry Sham Fld, ILS OR LOC RWY 28R, Amdt 14C

Modesto, CA, Modesto City-Co-Harry Sham Fld, VOR RWY 28R, Orig-B

Ontario, CA, Ontario Intl, ILS OR LOC RWY 26L, ILS RWY 26L CAT II, ILS RWY 26L CAT III, Amdt 8A

Milford, IA, Fuller, RNAV (GPS)-B, Orig

Milford, IA, Fuller, Takeoff Minimums and Obstacle DP, Amdt 1

Milford, IA, Fuller, VOR-A, Amdt 1

Rexburg, ID, Rexburg-Madison County, VOR RWY 35, Amdt 4B

Chicago/Rockford, IL, Chicago/Rockford Intl, ILS OR LOC RWY 1, Amdt 28D

Chicago/Rockford, IL, Chicago/Rockford Intl, ILS OR LOC RWY 7, ILS RWY 7 SA CAT I, ILS RWY 7 CAT II, ILS RWY 7 CAT III, Amdt 1E

Chicago/Rockford, IL, Chicago/Rockford Intl, LOC BC RWY 19, Amdt 15C

Chicago/Rockford, IL, Chicago/Rockford Intl, RADAR-1, Amdt 10B

Chicago/Rockford, IL, Chicago/Rockford Intl, RNAV (GPS) RWY 1, Amdt 1C

Chicago/Rockford, IL, Chicago/Rockford Intl, RNAV (GPS) RWY 7, Amdt 1C

Chicago/Rockford, IL, Chicago/Rockford Intl, RNAV (GPS) RWY 19, Amdt 2B

Chicago/Rockford, IL, Chicago/Rockford Intl, RNAV (GPS) RWY 25, Amdt 1B

Chicago, IL, Chicago O'Hare Intl, ILS OR LOC RWY 4R, Amdt 7A

Chicago, IL, Chicago O'Hare Intl, ILS OR LOC RWY 10C, ILS RWY 10C SA CAT I, ILS RWY 10C CAT II, ILS RWY 10C CAT III, Amdt 2A

Chicago, IL, Chicago O'Hare Intl, ILS OR LOC RWY 10L, ILS RWY 10L SA CAT I, ILS RWY 10L CAT II, ILS RWY 10L CAT III, Amdt 19A

Chicago, IL, Chicago O'Hare Intl, ILS OR LOC RWY 22L, Amdt 6A

Chicago, IL, Chicago O'Hare Intl, ILS OR LOC RWY 22R, Amdt 9B

Chicago, IL, Chicago O'Hare Intl, ILS PRM RWY 10C (CLOSE PARALLEL), ILS PRM RWY 10C (CLOSE PARALLEL) SA CAT I, ILS PRM RWY 10C (CLOSE PARALLEL) CAT II, ILS PRM RWY 10C (CLOSE PARALLEL) CAT III, Amdt 1A

Chicago, IL, Chicago O'Hare Intl, ILS PRM Y RWY 10R (CLOSE PARALLEL), Orig-C

Chicago, IL, Chicago O'Hare Intl, ILS Y OR LOC Y RWY 10R, Orig-C

Chicago, IL, Chicago O'Hare Intl, ILS Z OR LOC Z RWY 10R, ILS Z RWY 10R SA CAT I, ILS Z RWY 10R CAT II, ILS Z RWY 10R CAT III, Orig-B

Lake Charles, LA, Chennault Intl, ILS OR LOC RWY 15, Amdt 6

Lake Charles, LA, Chennault Intl, RNAV (GPS) RWY 15, Amdt 1

Lawrence, MA, Lawrence Muni, Takeoff Minimums and Obstacle DP, Amdt 5

Fulton, MO, Elton Hensley Memorial, RNAV (GPS) RWY 18, Orig-B

Madison, MS, Bruce Campbell Field, RNAV (GPS) RWY 17, Amdt 2

Madison, MS, Bruce Campbell Field, RNAV (GPS) RWY 35, Amdt 1

Madison, MS, Bruce Campbell Field, VOR RWY 17, Orig-C

Williston, ND, Sloulin Field Intl, Takeoff Minimums and Obstacle DP, Amdt 6

Lincoln Park, NJ, Lincoln Park, Takeoff Minimums and Obstacle DP, Amdt 1

Belen, NM, Belen Rgnl, RNAV (GPS) RWY 21, Amdt 1

Fulton, NY, Oswego County, RNAV (GPS) RWY 15, Orig-C

Massena, NY, Massena Intl—Richards Field, RNAV (GPS) RWY 5, Amdt 2B

Massena, NY, Massena Intl—Richards Field, RNAV (GPS) RWY 9, Amdt 1D

Massena, NY, Massena Intl—Richards Field, RNAV (GPS) RWY 23, Amdt 1C

Massena, NY, Massena Intl—Richards Field, RNAV (GPS) RWY 27, Amdt 1C

Montgomery, NY, Orange County, Takeoff Minimums and Obstacle DP, Amdt 3

Wellsville, NY, Wellsville Muni Arpt, Tarantine Fld, RNAV (GPS) RWY 28, Amdt 1A

Dayton, OH, Greene County—Lewis A Jackson Rgnl, RNAV (GPS) RWY 7, Amdt 1

Dayton, OH, Greene County—Lewis A Jackson Rgnl, RNAV (GPS) RWY 25, Amdt 1

Dayton, OH, Greene County—Lewis A Jackson Rgnl, Takeoff Minimums and Obstacle DP, Amdt 2

Hamilton, OH, Butler Co Rgnl—Hogan Field, ILS OR LOC RWY 29, Amdt 2

Hamilton, OH, Butler Co Rgnl—Hogan Field, RNAV (GPS) RWY 11, Amdt 1

Hamilton, OH, Butler Co Rgnl—Hogan Field, RNAV (GPS) RWY 29, Amdt 1

Hamilton, OH, Butler Co Rgnl—Hogan Field, Takeoff Minimums and Obstacle DP, Amdt 5

Mc Alester, OK, Mc Alester Rgnl, LOC RWY 2, Amdt 4B, CANCELED

Mc Alester, OK, Mc Alester Rgnl, RNAV (GPS) RWY 2, Amdt 1

Mc Alester, OK, Mc Alester Rgnl, RNAV (GPS) RWY 20, Amdt 1

Stigler, OK, Stigler Rgnl, RNAV (GPS) RWY 17, Orig-B

Creswell, OR, Hobby Field, HOBBY TWO, GRAPHIC DP

Allentown, PA, Allentown Queen City Muni, RNAV (GPS) RWY 7, Amdt 1E

Allentown, PA, Lehigh Valley Intl, ILS OR LOC RWY 6, ILS RWY 6 SA CAT I, ILS RWY 6 SA CAT II, Amdt 24

Danville, PA, Danville, RNAV (GPS) RWY 9, Orig-B

Spearfish, SD, Black Hills—Clyde Ice Field, SWUNG TWO, GRAPHIC DP

Austin, TX, Austin Executive, RNAV (GPS) RWY 31, Amdt 1

Eagle Pass, TX, Maverick County Memorial Intl, RNAV (GPS) RWY 13, Amdt 1

Kountze/Silsbee, TX, Hawthorne Field, RNAV (GPS) RWY 13, Amdt 1B

Eau Claire, WI, Chippewa Valley Rgnl, ILS OR LOC RWY 22, Amdt 10

Eau Claire, WI, Chippewa Valley Rgnl, RNAV (GPS) RWY 22, Amdt 2

Charleston, WV, Yeager, ILS OR LOC RWY 5, Orig

Charleston, WV, Yeager, ILS OR LOC RWY 23, Amdt 31

Charleston, WV, Yeager, LOC RWY 5, ORIG, CANCELED

Charleston, WV, Yeager, RNAV (GPS) Y RWY 5, Amdt 3

Charleston, WV, Yeager, RNAV (RNP) Z RWY 5, Amdt 2

Charleston, WV, Yeager, RNAV (RNP) Z RWY 23, Orig-B

Charleston, WV, Yeager, VOR-A, Amdt 14

Rescinded: On November 8, 2018 (83 FR 55821), the FAA published an Amendment in Docket No. 31220, Amdt No. 3823, to Part 97 of the Federal Aviation Regulations under section 97.23, and 97.37. The following entries for New Smyrna Beach, FL, New Smyrna Beach Muni and College Station, TX, Easterwood Field, effective January 3, 2019, are hereby rescinded in their entirety:

New Smyrna Beach, FL, New Smyrna Beach Muni, Takeoff Minimums and Obstacle DP, Amdt 3 College Station, TX, Easterwood Field, VOR OR TACAN RWY 11, Amdt 19E

[FR Doc. 2018-26246 Filed 12-4-18; 8:45 am]

BILLING CODE 4910-13-P